DEPARTMENT OF HEALTH AND HUMAN SERVICES

Announcement of Third Meeting of the 2025 Dietary Guidelines Advisory Committee and Request for Oral Public Comment

AGENCY: U.S. Department of Health and Human Services (HHS), Office of the Assistant Secretary for Health (OASH); U.S. Department of Agriculture (USDA), Food, Nutrition, and Consumer Services (FNCS).

ACTION: Notice.

SUMMARY: The Departments of Health and Human Services and Agriculture announce the third meeting of the 2025 Dietary Guidelines Advisory Committee (Committee). This meeting will be open to the public virtually. Additionally, this notice informs the public of the opportunity to provide oral comments virtually to the Committee regarding its work.

DATES: The third Committee meeting will be held on September 12, 2023, from 1:00 p.m. to 4:00 p.m. Eastern Time and on September 13, 2023, from 9:00 a.m. to 3:30 p.m. Eastern Time. The public may present oral comments virtually to the Committee on September 12, 2023; registration is required.

ADDRESSES: The meeting will be accessible online via livestream and recorded for later viewing. Registrants will receive the livestream information prior to the meeting.

FOR FURTHER INFORMATION CONTACT: Designated Federal Officer, 2025 Dietary Guidelines Advisory Committee, Janet M. de Jesus, MS, RD; HHS/OASH/ODPHP, 1101 Wootton Parkway, Suite 420, Rockville, MD 20852; Phone: 240-453-8266; Email DietaryGuidelines@hhs.gov. Additional information is at DietaryGuidelines.gov.

SUPPLEMENTARY INFORMATION:

Authority and Purpose: Under Section 301 of Public Law 101-445 (7 U.S.C. 5341, the National Nutrition Monitoring and Related Research Act of 1990, Title III), the Secretaries of HHS and USDA are directed to publish the Dietary Guidelines for Americans jointly at least every five years. See 88 FR 3423, January 19, 2023, for notice of the first meeting of the 2025 Dietary Guidelines Advisory Committee, the complete Authority and Purpose, and the Committee's Task. The 2025 Dietary Guidelines Advisory Committee is formed and governed under the provisions of the Federal Advisory Committee Act (FACA), Public Law 92-463, as amended (5 U.S.C., App).

Purpose of the Meeting: The Committee will meet to provide subcommittee updates, including presentations by each subcommittee, and deliberation by the full Committee regarding progress made since the second public meeting, including protocol development, evidence review and synthesis, systematic review findings, and plans for future Committee work. The Committee will also hear oral comments from the public at this meeting. In accordance with FACA, deliberations of the Committee will occur in a public forum.

Meeting Agendas: The specific agenda will be announced in advance of the meeting on DietaryGuidelines.gov.

Meeting Registration: This Committee meeting is open to the public. The meeting will be accessible online via livestream and recorded for later viewing. Registration is required for the livestream and will open on Thursday, August 10, 2023. To register, go to DietaryGuidelines.gov and click on the link for “Meeting Registration.”

Meeting materials for each meeting will be accessible at DietaryGuidelines.gov. Materials may be requested by email at DietaryGuidelines@hhs.gov.

Oral Comments: The Committee invites the public to present oral comments for up to two minutes on Tuesday, September 12, 2023. Pre-registration is required, and the number of commenters is limited based on the time available. Registration for oral comments will open on Thursday, August 10, 2023, at 10:00 a.m. Eastern Time. Oral comments will be confirmed on a first-come, first-served basis. Oral comments are limited to one representative per organization. All commenters' remarks should be respectful and given in a manner that recognizes and protects the dignity of the proceedings. Oral comments should focus on the Committee's work and be directed to the entire Committee, not individual members.

Registration for Oral Comments: Requests to present oral comments can be made by going to DietaryGuidelines.gov and clicking on the link for “Meeting Registration.” For registration to be accepted, a written outline or a summary of the intended oral comment will be required as part of the registration process. Please limit your written outline or summary to no more than 400 words. A confirmation email with instructions will be sent to confirmed speakers from DietaryGuidelines@hhs.gov.

Public Comments: A call for written public comment to the Committee opened on January 19, 2023, and will remain open throughout the Committee's deliberations. Written comments may be submitted at Regulations.gov (Document ID: HHS-OASH-2022-0021-0001).

Paul Reed,
Deputy Assistant Secretary for Health, Office of Disease Prevention and Health Promotion.

[FR Doc. 2023-15342 Filed 7-18-23; 8:45 am]

BILLING CODE 4150-32-P